DEPARTMENT OF THE INTERIOR

National Park Service

[NPS-WASO-NAGPRA-17404; PPWOCRADN0-PCU00RP14.R50000]

Notice of Inventory Completion: California State University, Sacramento, Sacramento, CA

AGENCY: National Park Service, Interior.

ACTION: Notice.

SUMMARY: California State University, Sacramento has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to California State University, Sacramento. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the California State University, Sacramento at the address in this notice by March 6, 2015.

ADDRESSES: Orn Bodvarsson, Dean of the College of Social Sciences and Interdisciplinary Studies, CSUS, 6000 J Street, Sacramento, CA 95819-6109, telephone (916) 278-4864, email obbodvarsson@csus.edu.

SUPPLEMENTARY INFORMATION: Notice is here given in accordance with the Native American Graves Protection and Repatriation Act (NAGPRA), 25 U.S.C. 3003, of the completion of an inventory of human remains and associated funerary objects under the control of the California State University, Sacramento. The human remains and associated funerary objects were removed from Amador, Sacramento, San Joaquin, and Yolo counties, CA.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the California State University, Sacramento professional staff in consultation with representatives of Buena Vista Rancheria of Me-Wuk Indians of California; Cachil DeHe Band of Wintun Indians of the Colusa Indian Community of the Colusa Rancheria, California; California Valley Miwok Tribe, California; Ione Band of Miwok Indians of California; Santa Rosa Indian Community of the Santa Rosa Rancheria, California; Shingle Springs Band of Miwok Indians, Shingle Springs Rancheria (Verona Tract), California; Susanville Indian Rancheria, California; United Auburn Indian Community of the Auburn Rancheria of California; and the Nashville-Eldorado Miwok, a non-Federally recognized Native American group. Chicken Ranch Rancheria of Me-Wuk Indians of California; Cortina Indian Rancheria of Wintun Indians of California; Jackson Rancheria of Me-Wuk Indians of California; Picayune Rancheria of Chukchansi Indians of California; Table Mountain Rancheria of California; Tule River Indian Tribe of the Tule River Reservation, California; Tuolumne Band of Me-Wuk Indians of the Tuolumne Rancheria of California; Wilton Rancheria, California; Wiyot Tribe, California (previously listed as the Table Bluff Reservation-Wiyot Tribe); Yocha Dehe Wintun Nation, California (previously listed as the Rumsey Indian Rancheria of Wintun Indians of California); and the Miwok Tribe of the El Dorado Rancheria, a non-Federally recognized Native American group, were also contacted by California State University, Sacramento.

History and Description of the Remains

Sometime during the 1920s and the 1930s, human remains representing, at minimum, 114 individuals were removed from unknown locations most likely located within Sacramento and Yolo Counties, CA. The remains were in the possession of Anthony Zallio, a private collector, who posthumously donated his collection in 1951 to the Department of Anthropology at Sacramento State College, CA (now California State University, Sacramento).

Information regarding the site location for the human remains and funerary objects does not exist; however, research done by professional staff at California State University, Sacramento indicates the human remains were most likely removed from site locations in Sacramento or Yolo counties, CA. No known individuals were identified. The 11 associated funerary objects are two shell beads, one lot of slate drills, two projectile points, one shell, and five Haliotis shell ornaments.

Anthony Zallio lived in Sacramento during the 1920s and 1930s. He was employed by Sacramento City College as an instructor of several disciplines including anthropology. Zallio excavated archaeological sites in order to obtain items for his private collection; his documented area of interest surrounded the Lower Sacramento Valley and the Delta Regions in Sacramento and Yolo counties in CA. Zallio also travelled internationally, and collected objects and human remains from around the world. Zallio demarcated these items from the rest of his collection by indicating the place of origin in his personal ledger or upon the object. It is believed that objects that have not been marked or otherwise noted in his personal ledger were considered less noteworthy, and were most likely removed from the lower Sacramento Valley region.

Sometime during the 1920s and 1930s, human remains representing, at minimum, one individual were removed from an unknown location in Amador County, CA. The exact location is currently unknown. The human remains were in the possession of Anthony Zallio, a private collector, who posthumously donated his collection in 1951 to the Department of Anthropology at Sacramento State College, CA (now California State University, Sacramento). No known individuals were identified. No associated funerary objects are present.

Sometime during the 1920s and 1930s, human remains representing, at minimum, one individual were removed from “Anderson Place,” most likely located in southern Sacramento County, CA. The exact location is currently unknown. The human remains were in the possession of Anthony Zallio, a private collector, who posthumously donated his collection in 1951 to the Department of Anthropology at Sacramento State College, CA (now California State University, Sacramento). No known individuals were identified. No associated funerary objects are present.

Sometime during the 1920s and 1930s, human remains representing, at minimum, two individuals were removed from “Bartholomew Mound #2”, which may be located at or in the vicinity of CA-SAC-117, on Deer Creek approximately 3.5 miles southeast of Elk Grove, in central Sacramento County, CA. The human remains were in the possession of Anthony Zallio, a private collector, who posthumously donated his collection in 1951 to the Department of Anthropology at Sacramento State College, CA (now California State University, Sacramento). No known individuals were identified. The four associated funerary objects are Haliotis shell ornaments.

Sometime during the 1920s and 1930s, human remains representing, at minimum, one individual were removed from a site location near Deer Creek in Sacramento County, CA. The exact location is currently unknown. The remains were in the possession of Anthony Zallio, a private collector, who posthumously donated his collection in 1951 to the Department of Anthropology at Sacramento State College, CA (now California State University, Sacramento). No known individuals were identified. The associated funerary object is one projectile point imbedded in human bone.

Sometime during the 1920s and 1930s, human remains representing, at minimum, two individuals were removed from “Fessler Mound,” which is located 2 miles north of Slough House between Deer Creek and the Cosumnes River. The exact location is currently unknown. The human remains are currently a part of the Zallio Collection which was donated by Anthony Zallio to Sacramento State College, CA (now California State University, Sacramento) in 1951. It is currently unknown if the human remains were a part of the original Zallio Collection or if they were incorporated into the collection sometime after it was donated. No known individuals were identified. No associated funerary objects are present.

Sometime during the 1920s and 1930s, human remains representing, at minimum, one individual were removed from “Hutchinson Mound,” which is believed to be located near Sloughhouse, in east-central Sacramento County, CA. The exact location is currently unknown. The human remains were in the possession of Anthony Zallio, a private collector, who posthumously donated his collection in 1951 to the Department of Anthropology at Sacramento State College, CA (now California State University, Sacramento). No known individuals were identified. No associated funerary objects are present.

In 1935, human remains representing, at minimum, one individual were removed from “Buckeye.” The exact location is currently unknown. Anthony Zallio, a private collector, attributed the remains to the Nisenan, which indicates the site was most likely located in the lower Sacramento Valley, CA. Zallio posthumously donated his collection in 1951 to the Department of Anthropology at Sacramento State College, CA (now California State University, Sacramento). No known individuals were identified. No associated funerary objects are present.

Sometime during the 1920s and 1930, human remains representing, at minimum, one individual were removed from an unknown location referred to as “Big Tree.” The exact location is currently unknown. The human remains were in the possession of Anthony Zallio, a private collector, who posthumously donated his collection in 1951 to the Department of Anthropology at Sacramento State College, CA (now California State University, Sacramento). No known individuals were identified. No associated funerary objects are present.

Sometime during the 1920s and 1930s, human remains representing, at minimum, four individuals were removed from “Dalton.” The exact location is currently unknown. The human remains were in the possession of Anthony Zallio, a private collector, who posthumously donated his collection in 1951 to the Department of Anthropology at Sacramento State College, CA (now California State University, Sacramento). No known individuals were identified. No associated funerary objects are present.

Sometime during the 1920s and 1930s, human remains representing, at minimum, one individual were removed from “MacGeorge,” which is believed to be located in San Joaquin County, CA. The exact location is currently unknown. The human remains were in the possession of Anthony Zallio, a private collector, who posthumously donated his collection in 1951 to the Department of Anthropology at Sacramento State College, CA (now California State University, Sacramento). No known individuals were identified. No associated funerary objects are present.

Sometime during the 1920s and 1930s, human remains representing, at minimum, four individuals were removed from a site known as “Oak Tree,” which may represent CA-SAC-106, located in southeastern Sacramento County, CA. The human remains were in the possession of Anthony Zallio, a private collector, who posthumously donated his collection in 1951 to the Department of Anthropology at Sacramento State College, CA (now California State University, Sacramento). No known individuals were identified. No associated funerary objects were present.

Sometime during the 1920s and 1930s, human remains representing, at minimum, six individuals were removed from “Thistle,” which is believed to be located in west-central Sacramento County, CA. The exact location is currently unknown. The human remains were in the possession of Anthony Zallio, a private collector, who posthumously donated his collection in 1951 to the Department of Anthropology at Sacramento State College, CA (now California State University, Sacramento). No known individuals were identified. No associated funerary objects are present.

Sometime during the 1920s and 1930s, human remains representing, at minimum, one individual were removed from a site located in Sacramento County, CA. The exact site location is unknown. The human remains were in the possession of Anthony Zallio, a private collector, who posthumously donated his collection in 1951 to the Department of Anthropology at Sacramento State College (now California State University, Sacramento) No known individuals have been identified. No associated funerary objects are present.

Sometime during the 1920s and 1930s, human remains representing, at minimum, six individuals were removed from a site known as “Hall Mound,” which may be located 2 miles north of Sloughhouse in the Cosumnes River Basin between Deer Creek and the Cosumnes River in Yolo County, CA. The exact site location is unknown. Hall Mound may represent CA-YOL-051 located near Elk Slough in southeastern Yolo County, CA. The human remains were in the possession of Anthony Zallio, a private collector, who posthumously donated the collection in 1951 to the Department of Anthropology at Sacramento State College, CA (now California State University, Sacramento). No known individuals have been identified. No associated funerary objects are present.

Determinations Made by the California State University, Sacramento

Officials of the California State University, Sacramento have determined that:

• Pursuant to 25 U.S.C. 3001(9), the human remains described in this notice are Native American based on physical and dental morphology, the condition of the human remains, and the funerary objects found in association.

• Pursuant to 25 U.S.C. 3001(9), the human remains described in this notice represent the physical remains of 146 individuals of Native American ancestry.

• Pursuant to 25 U.S.C. 3001(3)(A), the 16 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• Other credible lines of evidence, indicate that the land from which the Native American human remains and funerary objects, if applicable, were removed is the aboriginal land of the Buena Vista Rancheria of Me-Wuk Indians of California; California Valley Miwok Tribe, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California; United Auburn Indian Community of the Auburn Rancheria of California; Wilton Rancheria, California; and two non-Federally recognized Native American groups: El Dorado Miwok Rancheria; and Nashville-Eldorado Miwok.

• Pursuant to 43 CFR 10.11(c)(1), the disposition of the human remains and associated funerary objects may be to Buena Vista Rancheria of Me-Wuk Indians of California; California Valley Miwok Tribe, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California; United Auburn Indian Community of the Auburn Rancheria of California; Wilton Rancheria, California; and two non-Federally recognized Native American groups: El Dorado Miwok Rancheria; and Nashville-Eldorado Miwok (if joined to the request of one or more of the foregoing Indian tribes).

Additional Requestors and Disposition

Representatives of any Indian tribe or Native Hawaiian organization not identified in this notice that wish to request transfer of control of these human remains and associated funerary objects should submit a written request with information in support of the request to Orn Bodvarsson, Dean of the College of Social Sciences and Interdisciplinary Studies, CSUS, 6000 J Street, Sacramento, CA 95819-6109, telephone (916) 278-4864, email obbodvarsson@csus.edu, by March 6, 2015. After that date, if no additional requestors have come forward, transfer of control of the human remains and associated funerary objects to the Buena Vista Rancheria of Me-Wuk Indians of California; California Valley Miwok Tribe, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California; United Auburn Indian Community of the Auburn Rancheria of California; Wilton Rancheria, California; and two non-Federally recognized Native American groups: El Dorado Miwok Rancheria; and Nashville-Eldorado Miwok (if joined to the request of one or more of the foregoing Indian tribes) may proceed.

California State University, Sacramento is responsible for notifying the Buena Vista Rancheria of Me-Wuk Indians of California; Cachil DeHe Band of Wintun Indians of the Colusa Indian Community of the Colusa Rancheria, California; California Valley Miwok Tribe, California; Chicken Ranch Rancheria of Me-Wuk Indians of California; Cortina Indian Rancheria of Wintun Indians of California; Ione Band of Miwok Indians of California; Jackson Rancheria of Me-Wuk Indians of California; Picayune Rancheria of Chukchansi Indians of California; Santa Rosa Indian Community of the Santa Rosa Rancheria, California; Shingle Springs Band of Miwok Indians, Shingle Springs Rancheria (Verona Tract), California; Susanville Indian Rancheria, California; Table Mountain Rancheria of California; Tule River Indian Tribe of the Tule River Reservation, California; Tuolumne Band of Me-Wuk Indians of the Tuolumne Rancheria of California; United Auburn Indian Community of the Auburn Rancheria of California; Wilton Rancheria, California; Wiyot Tribe, California (previously listed as the Table Bluff Reservation-Wiyot Tribe); and Yocha Dehe Wintun Nation, California (previously listed as the Rumsey Indian Rancheria of Wintun Indians of California) that this notice has been published. California State University, Sacramento will also notify the El Dorado Miwok Rancheria; and Nashville-Eldorado Miwok, two non-Federally recognized Native American groups.

Dated: December 29, 2014.
Melanie O'Brien,
Acting Manager, National NAGPRA Program.

[FR Doc. 2015-02181 Filed 2-3-15; 8:45 am]

BILLING CODE 4312-50-P